DEPARTMENT OF DEFENSE

Department of the Army; Corps of Engineers

Notice of Availability for Comments Regarding the Planned Environmental Assessment Interim Report IIIa Fish Deterrent Barriers, Illinois and Chicago Area Waterways

AGENCY: Department of the Army—U.S. Army Corps of Engineers, DoD.

ACTION: Notice of Availability.

SUMMARY: The U.S. Army Corps of Engineers, Chicago District is requesting public comments for a planned Environmental Assessment. The Corps is directed to conduct a study of technologies that may enhance the efficacy of the Chicago Sanitary and Ship Canal Dispersal Barriers System. The study is structured as a series of interim reports. Interim Report IIIa, limited to the impacts of implementing additional in-stream barrier/deterrent technologies at key locations in the Illinois and Chicago Area Waterways is the focus of this planned EA. The specific technologies under consideration include acoustic deterrents, air bubble curtains, and strobe lights used both individually and in combination. Comments are requested to assist in determining the level of analysis and impacts to be considered for implementing these in-stream barrier/deterrent technologies. Any comments received by the Corps on the proposed EA will be considered fully for the Federal action associated with the Project.

FOR FURTHER INFORMATION CONTACT: Comments concerning the level of analysis or impacts to be considered in the draft Environmental Assessment should be provided by March 19, 2010, to Peter Bullock at the Chicago District at peter.y.bullock@usace.army.mil.

SUPPLEMENTARY INFORMATION: None.

Susanne J. Davis,
Chief, Planning Branch, Chicago District.

[FR Doc. 2010-5619 Filed 3-12-10; 8:45 am]

BILLING CODE 3720-58-P